DEPARTMENT OF HOUSING AND URBAN DEVELOPMENT

[Docket No. FR-4910-N-18]

Notice of Proposed Information Collection for Public Comment; Allocation of Operating Subsidies Under the Operating Fund Formula: Data Collection

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: September 21, 2004.

ADDRESSES: Interested persons are invited to submit comments regarding this proposal. Comments should refer to the proposal by name/or OMB Control number and should be sent to: Sherry Fobear McCown, Reports Liaison Officer, Public and Indian Housing, Department of Housing and Urban Development, 451 7th Street, SW., Room 4116, Washington, DC 20410-5000.

FOR FURTHER INFORMATION CONTACT: Sherry Fobear McCown, (202) 708-0713, extension 7651, for copies of the proposed forms and other available documents. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Allocation of Operating Subsidies Under the Operating Fund Formula: Data Collection.

OMB Control Number: 2577-0029.

Description of the need for the information and proposed use: Section 9(f) of the United States Housing Act of 1937 establishes an Operating Fund for the purpose of making assistance available to public housing agencies (PHAs) which assistance is determined using a formula approach called the Performance Funding System (PFS). PHAs compute their operating subsidy eligibility by completing the following HUD prescribed forms, as applicable, each fiscal year: Operating Fund Data Collection (HUD-52720-A); Operating Fund Calculation of Formula and Delta (HUD-52720-B); Range Test and Determination of Base Year Expense Level (HUD-52720-C); Calculation of Allowable Utilities Expense Level (HUD-52722-A); Adjustment for Utility Consumption and Rates (HUD-52722-B); Operating Fund Calculation of Operating Subsidy (HUD-52723); and Calculation of Subsidies for Operation (HUD-53087). HUD uses the information on these forms to determine the operating subsidy obligation and proration level for each PHA.

Agency form number: HUD-52720-A, HUD-52720-B, HUD-52720-C, HUD-52722-A, HUD 52722-B, HUD-52723, and HUD-53087.

Members of affected public: Public Housing Agencies.

Estimation of the total number of hours needed to prepare the information collection including number of respondents: 3200 respondents annually with 1 response per respondent (seven forms) for a total of 22,400 responses; .45 average time per response and 10,080 hours total reporting burden hours.

Status of the proposed information collection: Extension of currently approved collection.

Authority: Section 3506 of the Paperwork Reduction Act of 1995, 44 U.S.C. Chapter 35, as amended.

Dated: July 16, 2004.
William O. Russell,
Deputy Ass't Sec'y for Public Housing and Voucher Programs.

[FR Doc. 04-16855 Filed 7-22-04; 8:45 am]

BILLING CODE 4210-33-P